DEPARTMENT OF LABOR

Office of the Secretary

Combating Exploitive Child Labor Through Education in Guyana; Correction

AGENCY: Bureau of International Labor Affairs, Department of Labor.

ACTION: Correction.

SUMMARY: In notice document 05-9284 beginning on page 24632 in the issue of Tuesday, May 10, 2005, make the following correction:

On page 24632 in the third column, the population statistics previously listed in the second sentence under the heading “Barriers to Education for Working Children in Guyana” are incorrect. This sentence should be changed to read “UNICEF has estimated that 27 percent of children ages 5 to 14, or approximately 44,500 children, were working in Guyana in 2000.”

Dated: May 11, 2004.
Valerie Veatch,
Grant Officer.

[FR Doc. 05-9870 Filed 5-17-05; 8:45 am]

BILLING CODE 4510-23-P